NATIONAL TRANSPORTATION SAFETY BOARD

Sunshine Act; Notice of Meeting

TIME: 9 a.m., Tuesday, November 18, 2003.

PLACE: NTSB Conference Center, 429 L'Enfant Plaza SW, Washington, DC 20594.

STATUS: The two items are open to the public.

MATTERS TO BE CONSIDERED:

5299K—Most Wanted Safety Recommendations Program—November 2003 Update on Federal Issues.

7602—Aviation Accident Report—Crash of an Aviation Charter, Inc., Raytheon (Beechcraft) King Air A100, N41BE, near Eveleth, Minnesota, on October 25, 2002.

NEWS MEDIA CONTACT: Telephone: (202) 314-6100.

Individuals requesting specific accommodations should contact Ms. Carolyn Dargan at (202) 314-6305 by Friday, November 14, 2003.

FOR FURTHER INFORMATION CONTACT: Vicky D'Onofrio, (202) 314-6410.

Dated: November 7, 2003.
Vicky D'Onofrio,
Federal Register Liaison Officer.

[FR Doc. 03-28432 Filed 11-7-03; 1:22 pm]

BILLING CODE 7533-01-M